DEPARTMENT OF THE INTERIOR

Fish and Wildlife Service

[FWS-R9-IA-2008-N0227; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by September 29, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531 et seq.). Written data, comments, or requests for copies of these complete applications should be submitted to the Director (address above).

Applicant: U.S. Fish and Wildlife Service/California Condor Recovery Program, Ventura, CA, PRT-185756

The applicant requests a permit to re-export one dead male captive-born specimen of a California condor (Gymnogyps californianus) to the Secretaria de Medio Ambiente y Recursos Naturales (SEMARNAT), Mexico City, Mexico for the purpose of enhancement of the species through conservation education.

Applicant: U.S. Fish and Wildlife Service/Whooping Crane Recovery Program, Austwell, TX, PRT-189482

The applicant requests a permit to export one dead male captive-born specimen of a whooping crane (Grus americana) to the Secretaria de Medio Ambiente y Recursos Naturales (SEMARNAT), Mexico City, Mexico for the purpose of enhancement of the species through conservation education.

Dated: August 15, 2008.
Lisa J. Lierheimer,
Senior Permit Biologist,Branch of Permits,Division of Management Authority.

[FR Doc. E8-19911 Filed 8-27-08; 8:45 am]

BILLING CODE 4310-55-P